DEPARTMENT OF COMMERCE

Submission For OMB Review; Comment Request

DOC has submitted to the Office of Management and Budget (OMB) for clearance the following proposal for collection of information under the provisions of the Paperwork Reduction Act (44 U.S.C. chapter 35).

Agency: U.S. Census Bureau.

Title: Shipper's Export Declaration (SED) Program.

Form Number(s): 7525-V (paper form), Automated Export System (AES) (automated form).

Agency Approval Number: 0607-0152.

Type of Request: Revision of a currently approved collection.

Burden: 944,188 hours.

Number of Respondents: 200,000.

Avg Hours Per Response: 11 minutes (7525-V), 3 minutes (AES).

Needs and Uses: The Census Bureau requests continued OMB clearance for the paper and electronic forms it uses in the Shipper's Export Declaration (SED) Program. These are the paper Shipper's Export Declaration (SED) 7525-V and its electronic equivalent, the Automated Export System (AES). The paper SED form has recently undergone substantial revisions. However, with this submission the Census Bureau intends to further revise the paper SED form to collect the forwarding agent's Employer Identification Number (EIN) by adding block 5b for “Forwarding Agent's (IRS) or ID No.”. This change to the paper form will bring it up to date with pending changes in the Census Bureau's Export Regulations contained in 15 CFR, Part 30. These changes are already reflected in the AES. The Census Bureau is revising the electronic AES to meet the requirements for the mandatory AES filing of commodities identified on the Department of Commerce's Commerce Control List (CCL) and the Department of State's U.S. Munitions List (USML). This requirement is mandated by Public Law 106-113, Title XII, “Security Assistance,” Subtitle E, “Proliferation Prevention Enhancement Act of 1999.”

This law requires that the export of items identified on the Department of Commerce, Bureau of Export Administration's (BXA) Commerce Control List (CCL) and the Department of State's United States Munitions List (USML) be reported via AES. The State Department has requested to have additional data items incorporated into the AES in order to accommodate the requirements of the International Traffic in Arms Regulations (ITAR). In meeting these requirements, the Census Bureau is adding the following data elements to the AES record: (1) Office of Defense Trade Controls (ODTC) Registration Number; (2) ODTC Significant Military Equipment (SME) Indicator; (3) ODTC Eligible Party Certification Indicator; (4) ODTC USML Category Code; (5) ODTC Unit of Measure; (6) ODTC Unit of Quantity; (7) ODTC Exemption Number; and (8) ODTC Export License Line Number. These additional data items requested by the State Department will not be incorporated on the paper SED since the items must be filed through AES. The incorporation of these data items into AES will allow for the elimination of the requirement for USPPIs or authorized filing agents to submit paper SEDs to the State Department. All of these revisions are referred to as a “conditional” data elements and are not required to be reported for all transactions. These revisions should not affect the average 11 minutes response time for the completion of the Commerce Form 7525-V or the average 3 minutes response time for the completion of the AES record.

The Census Bureau will allow the trade community a grace period of 90 days (September 3, 2002) to deplete their stock of the current SED forms and make revisions to the AES. However, during the grace period the Census Bureau will allow the use of both the old and revised Commerce Form 7525-V. As of September 3, 2002, only the Commerce Form 7525-V, collecting the forwarding agent's EIN will be accepted by the U.S. Customs Service and the Census Bureau. Furthermore, items identified on the CCL or USML, currently requiring a SED must be filed via AES.

The SED form and AES electronic equivalent provide the vehicles for collecting data on U.S. exports. Title 13, United States Code (U.S.C.), Chapter 9, Sections 301-307, mandates the collection of these data. The regulatory provisions for the collection of these data are contained in the Foreign Trade Statistics Regulations, Title 15, Code of Federal Regulations (CFR), Part 30. The official export statistics provide a basic component for the compilation of the U.S. position on merchandise trade. These data are an essential component of the monthly totals on U.S. International Trade in Goods and Services, a principal economic indicator and primary component of the Gross Domestic Product (GDP). The SED/AES also provides information for export control purposes as mandated under Title 50, U.S.C.. This information is used to detect and prevent the export of high technology items or military goods to unauthorized destinations or end users.

Affected Public: Business or other for-profit.

Frequency: On occasion.

Respondent's Obligation: Mandatory.

Legal Authority: Title 13, United States Code (U.S.C.), chapter 9, sections 301-307; Title 15, Code of Federal Regulations (CFR), part 30.

OMB Desk Officer: Susan Schechter, (202) 395-5103.

Copies of the above information collection proposal can be obtained by calling or writing Madeleine Clayton, Departmental Paperwork Clearance Officer, (202) 482-3129, Department of Commerce, room 6608, 14th and Constitution Avenue, NW, Washington, DC 20230 (or via the Internet at mclayton@doc.gov).

Written comments and recommendations for the proposed information collection should be sent within 30 days of publication of this notice to Susan Schechter, OMB Desk Officer, room 10201, New Executive Office Building, Washington, DC 20503.

Dated: February 26, 2002.
Madeleine Clayton,
Departmental Paperwork Clearance Officer, Office of the Chief Information Officer.

[FR Doc. 02-5075 Filed 3-1-02; 8:45 am]

BILLING CODE 3510-07-P